DEPARTMENT OF TRANSPORTATION

Federal Aviation Administration

14 CFR Part 39

[Docket No. FAA-2008-0734; Directorate Identifier 2008-NM-004-AD; Amendment 39-15697; AD 2008-22-02]

RIN 2120-AA64

Airworthiness Directives; Maryland Air Industries, Inc., Model Fairchild F-27 and FH-227 Series Airplanes

AGENCY: Federal Aviation Administration (FAA), DOT.

ACTION: Final rule.

SUMMARY: We are adopting a new airworthiness directive (AD) for Maryland Air Industries, Inc., Model Fairchild F-27 and FH-227 Series Airplanes. This AD requires operators to modify their airplanes and revise their inspection or maintenance programs to incorporate instructions for maintenance and inspection of the fuel tank systems, as appropriate, by December 16, 2008, using information developed in accordance with Special Federal Aviation Regulation 88 (SFAR 88). This AD results from fuel system safety reviews done on similar airplane models in accordance with SFAR 88. These safety reviews identified potential unsafe conditions on Model Fairchild F-27 and FH-227 series airplanes for which the type certificate holder, Maryland Air Industries, Inc., has not conducted SFAR 88 safety reviews, has not provided corrective actions, and does not plan to do so. We are issuing this AD to reduce the potential of ignition sources inside fuel tanks, which, in combination with flammable fuel vapors, could result in fuel tank explosions and consequent loss of the airplane.

DATES: This AD is effective November 28, 2008.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building, Ground Floor, Room W12-140, 1200 New Jersey Avenue, SE., Washington, DC 20590.

FOR FURTHER INFORMATION CONTACT: James Delisio, Aerospace Engineer, Airframe and Propulsion Branch, ANE-171, FAA, New York Aircraft Certification Office, 1600 Stewart Avenue, Suite 410, Westbury, New York 11590; telephone (516) 228-7321; fax (516) 794-5531.

SUPPLEMENTARY INFORMATION:

Discussion

We issued a notice of proposed rulemaking (NPRM) to amend 14 CFR part 39 to include an airworthiness directive (AD) that would apply to all Maryland Air Industries, Inc., Model Fairchild F-27 and FH-227 series airplanes. That NPRM was published in the Federal Register on July 21, 2008 (73 FR 42282). That NPRM proposed to require operators to modify their airplanes and revise their inspection or maintenance programs to incorporate instructions for maintenance and inspection of the fuel tank systems, as appropriate, by December 16, 2008, using information developed in accordance with Special Federal Aviation Regulation 88.

Comments

We gave the public the opportunity to participate in developing this AD. We received no comments on the NPRM or on the determination of the cost to the public.

Conclusion

We reviewed the relevant data and determined that air safety and the public interest require adopting the AD as proposed.

Costs of Compliance

We estimate that this AD affects 29 airplanes of U.S. registry. We recognize that this AD might impose certain costs. However, we cannot calculate those costs because we cannot anticipate the complexity or content of the plans that operators will submit to the FAA. However, continued operational safety necessitates the imposition of these costs because of the severity of the unsafe condition.

Authority for This Rulemaking

Title 49 of the United States Code specifies the FAA's authority to issue rules on aviation safety. Subtitle I, section 106, describes the authority of the FAA Administrator. Subtitle VII: ``Aviation Programs,” describes in more detail the scope of the Agency's authority.

We are issuing this rulemaking under the authority described in subtitle VII, part A, subpart III, section 44701: ``General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-22-02 Maryland Air Industries, Inc.: Amendment 39-15697. Docket No. FAA-2008-0734; Directorate Identifier 2008-NM-004-AD.

Effective Date

(a) This airworthiness directive (AD) is effective November 28, 2008.

Affected ADs

(b) None.

Applicability

(c) This AD applies to all Model Fairchild F-27, F-27A, F-27B, F-27F, F-27G, F-27J, F-27M, FH-227, FH-227B, FH-227C, FH-227D, and FH-227E series airplanes, certificated in any category.

Unsafe Condition

(d) This AD results from fuel system safety reviews done on similar airplane models in accordance with Special Federal Aviation Regulation No. 88 (SFAR 88). These safety reviews identified potential unsafe conditions on Model Fairchild F-27 and FH-227 series airplanes for which the type certificate holder, Maryland Air Industries, Inc., has not conducted SFAR 88 safety reviews, has not provided corrective actions, and does not plan to do so. We are issuing this AD to reduce the potential of ignition sources inside fuel tanks, which, in combination with flammable fuel vapors, could result in fuel tank explosions and consequent loss of the airplane.

Compliance

(e) Comply with this AD within the compliance times specified, unless already done.

Report

(f) Within 45 days after the effective date of this AD, submit a report to the Manager, New York Aircraft Certification Office, FAA. The report must include the information listed in paragraphs (f)(1) and (f)(2) of this AD. Under the provisions of the Paperwork Reduction Act (44 U.S.C. 3501 et seq.), the Office of Management and Budget (OMB) has approved the information collection requirements contained in this AD, and assigned OMB Control Number 2120-0056.

(1) The airplane registration and operational status.

(2) A plan for how the airplane operator plans to comply with paragraph (g) of this AD.

SFAR 88 Design Modifications and Inspection or Maintenance Program Changes

(g) Before December 16, 2008, modify the airplane and revise the inspection or maintenance program to incorporate instructions for maintenance and inspection of the fuel tank system, using information developed in accordance with the applicable provisions SFAR 88, Amendment 21-78, and subsequent Amendments 21-82 and 21-83, which are included in a regulation titled “Transport Airplane Fuel Tank System Design Review, Flammability Reduction, and Maintenance and Inspection Requirements” (66 FR 23086, May 7, 2001).

Alternative Methods of Compliance (AMOCs)

(h)(1) The Manager, New York Aircraft Certification Office, FAA, ATTN: James Delisio, Aerospace Engineer, Airframe and Propulsion Branch, ANE-171, 1600 Stewart Avenue, Suite 410, Westbury, New York 11590; telephone (516) 228-7321; fax (516) 794-5531; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(i) None.

Issued in Renton, Washington, on October 9, 2008.
Ali Bahrami,
Manager, Transport Airplane Directorate, Aircraft Certification Service.

[FR Doc. E8-25304 Filed 10-23-08; 8:45 am]

BILLING CODE 4910-13-P